DEPARTMENT OF JUSTICE

[OMB Number 1121-0317]

Agency Information Collection Activities; Proposed eCollection eComments Requested; 2016/2018 Identity Theft Supplement (ITS)

AGENCY: Bureau of Justice Statistics, Department of Justice.

ACTION: 30-Day notice; Reinstatement, with change, of a previously approved collection for which approval has expired.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 30 days until September 14, 2015.

FOR FURTHER INFORMATION CONTACT: If you have additional comments especially on the estimated public burden or associated response time, suggestions, or need a copy of the proposed information collection instrument with instructions or additional information, please contact Erika Harrell, Statistician, Bureau of Justice Statistics, 810 Seventh Street NW., Washington, DC 20531 (email: Erika.Harrell@usdoj.gov; telephone: 202-307-0758). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement of the Identity Theft Supplement, with changes, a previously approved collection for which approval has expired.

(2) The Title of the Form/Collection: 2016/2018 Identity Theft Supplement

(3) The agency form number, if any, and the applicable component of the Department sponsoring the collection: The form number for the questionnaire is ITS-1. The applicable component within the Department of Justice is the Bureau of Justice Statistics, in the Office of Justice Programs.

(4) Affected public who will be asked or required to respond, as well as a brief abstract: Respondents will be persons 16 years or older living in households located throughout the United States sampled for the National Crime Victimization Survey (NCVS). The ITS will be conducted as a supplement to the NCVS in all sample households for a six (6) month period. The ITS is primarily an effort to measure the prevalence of identity theft among persons, the characteristics of identity theft victims, and patterns of reporting to the police, credit bureaus, and other authorities. The ITS was also designed to collect important characteristics of identity theft such as how the victim's personal information was obtained; the physical, emotional and financial impact on victims; offender information; and the measures people take to avoid or minimize their risk of becoming an identity theft victim. BJS plans to publish this information in reports and reference it when responding to queries from the U.S. Congress, Executive Office of the President, the U.S. Supreme Court, state officials, international organizations, researchers, students, the media, and others interested in criminal justices statistics.

(5) An estimate of the total number of respondents and the amount of time estimated for an average respondent to respond: An estimate of the total number of respondents is 113,000. About 93% of respondents (101,090) will have no identity theft and will complete the short interview with an average burden of five minutes. Among the 7% of respondents (7,910) who experienced at least one incident of identity theft, the time to ask the detailed questions regarding the aspects of the most recent incident of identity theft is estimated to take an average of 14 minutes. Respondents will be asked to respond to this survey only once during the six month period. The burden estimate is based on data from prior administrations of the ITS.

(6) An estimate of the total public burden (in hours) associated with the collection: There is an estimated 10,227 total burden hours associated with this collection.

If additional information is required contact: Jerri Murray, Department Clearance Officer, United States Department of Justice, Justice Management Division, Policy and Planning Staff, Two Constitution Square, 145 N Street NE., 3E.405B, Washington, DC 20530.

Dated: August 10, 2015.
Jerri Murray,
Department Clearance Officer for PRA, U.S. Department of Justice.

[FR Doc. 2015-19908 Filed 8-12-15; 8:45 am]

BILLING CODE 4410-18-P